DEPARTMENT OF JUSTICE

Drug Enforcement Administration

Importer of Controlled Substances; Notice of Application

Correction

In notice document 2011-3945 appearing on pages 10067-10068 in the issue of Wednesday, February 23, 2011, make the following correction:

On page 10068, in the first column, in the third paragraph after the table, in the eighth and ninth lines, “[insert date 30 days from date of publication]” should read “March 25, 2011.”

[FR Doc. C1-2011-3945 Filed 3-3-11; 8:45 am]

BILLING CODE 1505-01-D